SOCIAL SECURITY ADMINISTRATION

[Docket No: SSA-2024-0044]

Agency Information Collection Activities: Proposed Request and Comment Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA

(SSA) Social Security Administration, OLCA, Attn: Reports Clearance Director, Mail Stop 3253 Altmeyer, 6401 Security Blvd., Baltimore, MD 21235, Fax: 833-410-1631, Email address: OR.Reports.Clearance@ssa.gov

Or you may submit your comments online through https://www.reginfo.gov/public/do/PRAmain by clicking on Currently under Review—Open for Public Comments and choosing to click on one of SSA's published items. Please reference Docket ID Number [SSA-2024-0044] in your submitted response.

I. The information collections below are pending at SSA. SSA will submit them to OMB within 60 days from the date of this notice. To be sure we consider your comments, we must receive them no later than January 6, 2025. Individuals can obtain copies of the collection instruments by writing to the above email address.

1. Integrated Registration Services (IRES) System—20 CFR 401.45—0960-0626. IRES is an internet-based application that replaces the respondent's handwritten paper-based signature with a user identification number (User ID) and a password. IRES provides registration, authentication, and authorization gateway services for Business-to-Government (B2G) suites of services, including, but not limited to:

a. Business Services Online (BSO)

Claimant Representative Services

b. Government Services Online (GSO) (OMB #0960-0757)

Office of Child Support Enforcement (OCSE) Services

Secure exchange of information between SSA and third parties in support of SSA and other federal government-supported programs

c. Customer Support Application (CSA)

CSA provides customer support service for IRES. CSA allows users to complete the registration process via a telephone interview with a Social Security customer service representative.

The IRES System verifies the identity of individuals, businesses, organizations, entities, and government agencies seeking to use SSA's secured internet and telephone applications. Individuals need this verification to electronically request and exchange business data with SSA. Requestors provide SSA with the information needed to establish their identities. Once SSA verifies identity, the IRES system issues the requestor a user identification number and a password to conduct business with SSA. Respondents are employers; employees; third party submitters of wage data business entities providing taxpayer identification information; appointed representatives; representative payees; and data exchange partners conducting business in support of SSA programs.

Type of Request: Revision of an OMB-approved information collection.

Modality of completion | Number of respondents | Frequency of response | Average burden per response (minutes) | Estimated total annual burden (hours) | Average theoretical hourly cost amount (dollars) * | Total annual opportunity cost (dollars) **
IRES Internet Registrations | 266,210 | 1 | 5 | 22,184 | * $42.82 | ** $949,919
IRES Internet Requestors | 14,472,710 | 1 | 2 | 482,424 | * 42.82 | ** 20,657,396
IRES CS (CSA) Registrations | 2,216 | 1 | 11 | 406 | * 42.82 | ** 17,385
Total | 14,741,136 |  |  | 505,014 |  | ** 21,624,700
* We based this figure on an overall average of the average U.S. citizen's hourly salary, as reported by Bureau of Labor Statistics data (https://www.bls.gov/oes/current/oes_nat.htm#00-00000); hourly wages for Information and Record Keeping Analysts hourly salary, as reported by Bureau of Labor Statistics data. (Information and Record Clerks, All Other (bls.gov)); and average hourly wages for paralegals/legal assistants (Paralegals and Legal Assistants (bls.gov); and lawyers (Lawyers (bls.gov) as posted by the U.S. Bureau of Labor Statistics.
** This figure does not represent actual costs that SSA is imposing on recipients of Social Security payments to complete this application; rather, these are theoretical opportunity costs for the additional time respondents will spend to complete the application. There is no actual charge to respondents to complete the application.

2. Notification of a Social Security Number (SSN) to an Employer for Wage Reporting Purposes—20 CFR 422.103(a)—0960-0778. Individuals applying for employment must provide an SSN or indicate they have applied for one. However, when an individual applies for an initial SSN, there is a delay between the assignment of the number and the delivery of the SSN card. At an individual's request, SSA uses Form SSA-132 to send the individual's SSN to an employer. Mailing this information to the employer: (1) ensures the employer has the correct SSN for the individual; (2) allows SSA to receive correct earnings information for wage reporting purposes; and (3) reduces the delay in the initial SSN assignment and delivery of the SSN information directly to the employer. It also enables SSA to verify the employer as a safeguard for the applicant's personally identifiable information. The respondents are individuals applying for an initial SSN who ask SSA to mail confirmation of their application or the SSN to their employers.

Type of Request: Revision of an OMB-approved information collection.

Modality of completion | Number of respondents | Frequency of response | Average burden per response (minutes) | Estimated total annual burden (hours) | Average theoretical hourly cost amount (dollars) * | Average wait time in field office (minutes) ** | Total annual opportunity cost (dollars) ***
SSA-132 | 361,902 | 1 | 5 | 30,159 | * $31.48 | ** 24 | *** $5,506,482
* We based this figure on the average U.S. worker's hourly wages, as reported by Bureau of Labor Statistics data (https://www.bls.gov/oes/current/oes_nat.htm#00-0000).
** We based this figure on the average FY 2024 wait times for field offices, based on SSA's current management information data.
*** This figure does not represent actual costs that SSA is imposing on recipients of Social Security payments to complete this application; rather, these are theoretical opportunity costs for the additional time respondents will spend to complete the application. There is no actual charge to respondents to complete the application.

II. SSA submitted the information collections below to OMB for clearance. Your comments regarding these information collections would be most useful if OMB and SSA receive them 30 days from the date of this publication. To be sure we consider your comments, we must receive them no later than December 6, 2024. Individuals can obtain copies of these OMB clearance packages by writing to the OR.Reports.Clearance@ssa.gov.

1. Requests for Self-Employment Information, Employee Information, and Employer Information—20 CFR 422.120—0960-0508. When SSA cannot identify Form W-2 wage data for an individual, we place the data in an earnings suspense file and contact the individual (and certain instances the employer) to obtain the correct information. If the respondent furnishes the name and Social Security Number (SSN) information that agrees with SSA's records, or provides information that resolves the discrepancy, SSA adds the reported earnings to the respondent's Social Security record. We use Forms SSA-L2765, SSA-L3365, and SSA-L4002 for this purpose. The respondents are self-employed individuals and employees whose name and SSN information do not agree with their employer's and SSA's records.

Type of Request: Revision of an OMB approved information collection.

Modality of completion | Number of respondents | Frequency of response | Average burden per response (minutes) | Estimated total annual burden (hours) | Average theoretical hourly cost amount (dollars) ** | Total annual opportunity cost (dollars) ***
SSA-L2765 * | 1 | 1 | 10 | 1 | ** $31.48 | *** $31.48
SSA-L3365 * | 1 | 1 | 10 | 1 | ** 31.48 | *** 31.48
SSA-L4002 * | 1 | 1 | 10 | 1 | ** 31.48 | *** 31.48
Totals | 1 |  |  | 3 |  | *** 94.44
* SSA does not currently send out any of these collections; however, we included 1 hour burden placeholders for each collection, in the event we need to send these notices out in the near future.
** We based this figure on average U.S. worker's hourly wages, as reported by Bureau of Labor Statistics data (https://www.bls.gov/oes/current/oes_nat.htm).
*** This figure does not represent actual costs that SSA is imposing on recipients of Social Security payments to complete this application; rather, these are theoretical opportunity costs for the additional time respondents will spend to complete the application. There is no actual charge to respondents to complete the application.

2. Representative Payee Report of Benefits and Dedicated Account—20 CFR 416.546, 416.635, 416.640, and 416.665—0960-0576. SSA requires representative payees (RPs) to manage the dedicated account in accordance with our rules, including using the funds for permitted expenditures and reporting on the use of funds. When the SSI recipient requires a dedicated account, SSA notifies the RP to inform them of the need to open the dedicated account and of the rules for managing a dedicated account, including the required submission of a written report accounting for the use of money paid to Supplemental Security Income (SSI) recipients into the dedicated account. SSA allows the respondent to submit their own written report, or use Form SSA-6233, which simplifies the process for the respondents. SSA uses Form SSA-6233 to: (1) ensure the RPs use the payments for the recipient's current maintenance and personal needs and properly conserves the remainder; and (2) confirm the funds paid into the dedicated account are spent and saved in compliance with the law. Respondents are RPs for SSI recipients.

Type of Request: Revision of an OMB-approved information collection.

Modality of completion | Number of respondents | Frequency of response | Average burden per response (minutes) | Estimated total annual burden (hours) | Average theoretical hourly cost amount (dollars) ** | Average wait time in field office or for teleservice centers (minutes) **
SSA-6233 | 68,000 | 1 | 20 | 22,667 | $31.48 * | 21 ** | $1,462,781 ***
* We based this figure on average U.S. worker's hourly wages, as reported by Bureau of Labor Statistics data (https://www.bls.gov/oes/current/oes_nat.htm#00-0000).
** We based this figure on averaging both the average FY 2024 wait times for field offices (24 minutes) and teleservice centers (19 minutes), based on SSA's current management information data.
*** This figure does not represent actual costs that SSA is imposing on recipients of Supplemental Security Income payments to complete this application; rather, these are theoretical opportunity costs for the additional time respondents will spend to complete the application. There is no actual charge to respondents to complete the application.

3. Social Security Number Verification Services—20 CFR 401.45—0960-0660. Internal Revenue Service regulations require employers to provide wage and tax data to SSA using Form W-2, or its electronic equivalent. As part of this process, the employer must furnish the employee's name and SSN. In addition, the employee's name and SSN must match SSA's records for SSA to post earnings to the employee's earnings record, which SSA maintains. SSA offers the Social Security Number Verification Service (SSNVS), which allows employers to verify the reported names and SSNs of their employees match those in SSA's records. SSNVS is a cost-free, voluntary method for employers to verify employee information via the internet. SSA annotates data an employer supplies to SSA for verification that does not match SSA's records with a no match indicator and returns it to the employer. The respondents are employers who need to verify SSN data using SSA's records.

Type of Request: Revision of an OMB-approved information collection.

Modality of completion | Number of respondents | Frequency of response | Number of responses | Average burden per response (minutes) | Estimated total annual burden (hours) | Average theoretical hourly cost amount (dollars) ** | Total annual opportunity cost (dollars) ***
SSNVS | 44,891 | 60 | 2,663,460 | 5 | 221,955 | $43.65 * | $9,688,336 **
* We based this figure on the average hourly wage for Accountants and Auditors, as reported by the U.S. Bureau of Labor Statistics data (Accountants and Auditors (bls.gov)).
** This figure does not represent actual costs that SSA is imposing on recipients of Social Security payments to complete this application; rather, these are theoretical opportunity costs for the additional time respondents will spend to complete the application. There is no actual charge to respondents to complete the application.

4. Request for Deceased Individual's Social Security Record—20 CFR 402.130—0960-0665. The Freedom of Information Act (FOIA), at 5 U.S.C. 552(a)(3) of the U.S. Code, provides instructions for members of the public to request records from Federal Agencies. When a member of the public requests an individual's Social Security record under FOIA, SSA needs the name and address of the requestor as well as a description of the requested record to process the request. While SSA respondents may submit these requests in writing, SSA also allows for the use of Form SSA-711, Deceased Individual's Social Security Records, for FOIA requests for a deceased individual's records for genealogical research, family estate matters, and other reasons. SSA then uses the information the respondent provides on Form SSA-711, or via an internet request through SSA's electronic Freedom of Information Act Xpress (FOIAXpress) website, to: (1) verify the wage earner is deceased; and (2) access the correct Social Security record. Respondents are members of the public requesting deceased individuals' Social Security records.

Type of Request: Revision of an OMB-approved information collection.

Modality of completion | Number of respondents | Frequency of response | Number of responses | Average burden per response (minutes) | Estimated total annual burden (hours) | Average theoretical hourly cost amount (dollars) ** | Average wait time in field office or for teleservice centers (minutes) ** | Total annual opportunity cost (dollars) ***
Internet Request through FOIAXpress | 49,800 | 1 | 7 | 5,810 | * $31.48 |  | *** $182,899
SSA-711 (paper) | 200 | 1 | 7 | 23 | * $31.48 | ** 21 | *** $2,928
Total | 50,000 |  |  | 5,833 |  |  | *** $185,827
* We based this figure on average U.S. worker's hourly wages, as reported by Bureau of Labor Statistics data (https://www.bls.gov/oes/current/oes_nat.htm).
** We based this figure on averaging both the average FY 2024 wait times for field offices and teleservice centers, based on SSA's current management information data.
*** This figure does not represent actual costs that SSA is imposing on recipients of Social Security payments to complete this application; rather, these are theoretical opportunity costs for the additional time respondents will spend to complete the application. There is no actual charge to respondents to complete the application.

5. Sheltered Workshop Wage Reporting—0960-0771. Sheltered workshops are private non-profit organizations or institutions that implement a recognized program of rehabilitation for handicapped workers or provide such workers with remunerative employment or other occupational rehabilitating activity of an educational or therapeutic nature. Sheltered workshops perform a service for their clients by reporting monthly wages directly to SSA. SSA uses the information these workshops provide to verify and post monthly wages to SSI recipient's records. Most workshops report monthly wage totals to their local SSA office, so we can adjust the client's SSI payment amount in a timely manner and prevent overpayments. Sheltered workshops are motivated to report wages voluntarily as a service to their clients. Respondents are sheltered workshops that report monthly wages for services performed in the workshop.

Type of Request: Revision of an OMB-approved information collection.

Modality of completion | Number of respondents | Frequency of response | Total number of responses | Average burden per response (minutes) | Estimated total annual burden (hours) | Average theoretical hourly cost amount (dollars) ** | Average wait time in field office (minutes) ** | Total annual opportunity cost (dollars) ***
Sheltered Workshop Wage Reporting | 244 | 12 | 2,928 | 15 | 732 | $23.28 * | 24 ** | $44,302 ***
* We based this on average Rehabilitation Counselors hourly salary, as reported in Bureau of Labor Statistics data (Rehabilitation Counselors (bls.gov))
** We based this figure on the average FY 2024 wait times for field offices, based on SSA's current management information data.
*** This figure does not represent actual costs that SSA is imposing on recipients of Social Security payments to complete this application; rather, these are theoretical opportunity costs for the additional time respondents will spend to complete the application. There is no actual charge to respondents to complete the application.

Dated: November 1, 2024.
Naomi Sipple,
Reports Clearance Officer, Social Security Administration.

[FR Doc. 2024-25782 Filed 11-5-24; 8:45 am]

BILLING CODE 4191-02-P